DEPARTMENT OF TRANSPORTATION

Federal Highway Administration

Notice of Final Federal Agency Actions on Proposed Highway in New Hampshire

AGENCY: Federal Highway Administration (FHWA), DOT.

ACTION: Notice of limitation on claims for judicial review of actions of FHWA and other Federal agencies.

SUMMARY: This notice announces actions taken by the FHWA and other Federal agencies that are found within the meaning of 23 U.S.C. 139(l)(l). These actions relate to a proposed highway project, Interstate 93 beginning at the Massachusetts State Line in Salem, and proceeding northerly 19.8 miles to the junction of I-293 in Manchester in Rockingham and Hillsborough Counties, State of New Hampshire. These actions grant licenses, permits, and approval of the project.

DATES: By this notice, the FHWA is advising the public of final agency actions subject to 23 U.S.C. 139(l)(l). A claim seeking judicial review of the Federal agency actions on the highway project will be barred unless the claim is filed on or before November 26, 2007. If the Federal law that authorizes judicial review of a claim provides a time period of less than 180 days for filing such claim, then that shorter time period still applies.

FOR FURTHER INFORMATION CONTACT: For FHWA: Kathleen O. Laffey, Division Administrator, Federal Highway Administration, 19 Chenell Dr. Suite One, Concord, NH, 03301, Office Hours: 8 a.m. to 4:30 p.m., (603) 228-0417, e-mail: NewHampshire.FHWA@fhwa.dot.gov. For USACE: Christine A. Godfrey, Chief, Regulatory Division, NE District, 696 Virginia Road, Concord, MA, 01742-2751, Office Hours: 7:30 a.m. to 4 p.m., (978) 318-8335, e-mail: christine.a.godfrey@usace.army.mil. For NHDOT: William J. Cass, P.E., Assistant Director of Project Development, NH Department of Transportation, 1 Hazen Drive, PO Box 483, Concord, NH, 03302, Office Hours: 8 a.m. to 4 p.m., (603) 271-6152, bcass@dot.state.nh.us.

SUPPLEMENTARY INFORMATION: Notice is hereby given that the FHWA and other Federal agencies have taken final agency actions by issuing permits and approvals for the following highway project in the State of New Hampshire: Improvements to the Interstate 93 corridor between Salem and Manchester, New Hampshire, to improve the transportation efficiency and reduce safety problems associated with this approximately 19.8-mile segment of highway. The existing four-lane Interstate highway will be increased to eight lanes, improvements will be made at each of the five interchange locations along this segment of highway, and existing geometric deficiencies will be addressed. The FHWA project number is IM--IR-93-1(174)0, while the New Hampshire Department of Transportation (NHDOT) project number is 10418-C. The actions by the Federal agencies, and the laws under which such actions were taken, are described in the Final Environmental Impact Statement (FEIS) for the project, approved on April 28, 2004, in the FHWA Record of Decision (ROD) issued on June 28, 2005, and in other documents in the administrative record. The FEIS, ROD, and other documents in the Federal administrative record file are available by contacting the FHWA or the NHDOT at the addresses provided above. The FHWA FEIS and ROD can be viewed and downloaded from the project Web site at: http://www.rebuildingI93.com/content/overview. The USACE decision and permit (USACE Permit No. 199201232/NAE-2004-233) are available by contacting USACE at the address provided above.

This notice applies to all Federal agency decisions as of the issuance date of this notice and all laws under which such actions were taken, including but not limited to:

1. National Environmental Policy Act (NEPA) [42 U.S.C. 4321-4351].

2. Federal-Aid Highway Act [23 U.S.C. 109].

3. Clean Air Act, 42 U.S.C. 7401-7671(q).

4. Section 4(f) of the Department of Transportation Act of 1966 [49 U.S.C. 303].

5. Fish and Wildlife Coordination Act [16 U.S.C. 661-667(d)].

6. Magnuson-Stevens Fishery Conservation and Management Act of 1976, as amended [16 U.S.C. 1801 et seq.].

7. Section 106 of the National Historic Preservation Act of 1966, as amended [16 U.S.C. 470(f) et seq.].

8. Farmland Protection Policy Act (FPPA) [7 U.S.C. 4201-4209]

9. Clean Water Act, 33 U.S.C. 1251-1377 (Section 404, Section 401).

10. E.O. 11990 Protection of Wetlands.

11. E.O. 11988 Floodplain Management.

12. E.O. 12898 Federal Actions to Address Environmental Justice in Minority Populations and Low Income Populations.

(Catalog of Federal Domestic Assistance Program Number 20.205, Highway Planning and Construction. The regulations implementing Executive Order 12372 regarding intergovernmental consultation on Federal programs and activities apply to this program)

Authority: 23 U.S.C. 139(1)(1)

Issued on: May 23, 2007.
Kathleen O. Laffey,
Division Administrator, Concord, NH.

[FR Doc. E7-10357 Filed 5-29-07; 8:45 am]

BILLING CODE 4910-RY-P